DEPARTMENT OF HOMELAND SECURITY

Federal Emergency Management Agency

44 CFR Part 67

[Docket No. FEMA-P-7911]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4

2. The tables published under the authority of § 67.4 are proposed to be amended as follows:

Source of flooding and location of referenced elevation | ◆Elevation in feet (NAVD): Existing | ◆Elevation in feet (NAVD): Modified | Communities affected
Armour Branch Gypsum Creek:
At confluence with Gypsum Creek | ◆1,321 | ◆1,322 | City of Eastborough, City of Wichita.
Approximately 1,120 feet upstream of Rockwood Road | None | ◆1,368 |
Big Slough South:
Approximately 500 feet upstream of confluence with Arkansas River | ◆1,257 | ◆1,258 | City of Wichita, Sedgwick County, (Unincorporated Areas).
Approximately 2,830 feet upstream of South Meridian Avenue | ◆1,288 | ◆1,286 |
Calfskin Creek:
At confluence with Cowskin Creek | ◆1,314 | ◆1,316 |
Approximately 5,070 feet upstream of South 119th Street West | ◆1,322 | ◆1,324 |
Cowskin Creek:
At confluence with Wichita Valley Center Floodway | None | ◆1,279 | City of Colwich, City of Maize, City of Wichita, Sedgwick County, (Unincorporated Areas).
Approximately 4,000 feet downstream of State Highway 296 | ◆1,369 | ◆1,368 |
Dry Creek of Gypsum Creek:
At confluence with Gypsum Creek | ◆1,291 | ◆1,290 | City of Wichita.
Approximately 150 feet upstream of the confluence with Gypsum Creek | ◆1,291 | ◆1,290 |
Dry Creek North of Cowskin Creek:
At confluence with Cowskin Creek | None | ◆1,347 | Sedgwick County, (Unincorporated Areas).
At West 167th Street North | None | ◆1,386 |
Dry Creek South of Cowskin Creek:
At confluence with Cowskin Creek | None | ◆1,292 | Sedgwick County, (Unincorporated Areas).
At South Maize Road | None | ◆1,317 |
Dry Creek of Spring Creek:
Just downstream of East Madison Avenue | ◆1,267 | ◆1,266 | City of Derby, Sedgwick County, (Unincorporated Areas).
Approximately 50 feet upstream of East 55th Street South | None | ◆1,331 |
East Branch Gypsum Creek:
At confluence with Gypsum Creek | ◆1,336 | ◆1,334 | City of Wichita.
Approximately 100 feet upstream of East Central Parkway | None | ◆1,343 |
East Branch Gypsum Creek (Splitflow):
At convergence with East Branch Gypsum Creek | ◆1,341 | ◆1,340 |
At divergence from East Branch Gypsum Creek | ◆1,343 | ◆1,342 |
East Fork Chisholm Creek:
At confluence with Wichita Drainage Canal | ◆1,305 | ◆1,306 |
At Interstate Highway 135 Access Road | ◆1,305 | ◆1,306 |
Fabrique Branch Gypsum Creek:
At confluence with Gypsum Creek | ◆1,315 | ◆1,317 |
Approximately 150 feet upstream of Pedestrian Bridge/East Zimmerly Avenue | None | ◆1,325 |
Frisco Ditch:
Approximately 140 feet upstream of Interstate Highway 135 | ◆1,299 | ◆1,300 |
Approximately 600 feet upstream of Northeast Cemetery Road | None | ◆1,366 |
Gypsum Creek:
At confluence with Wichita Drainage Canal | ◆1,279 | ◆1,278 | City of Wichita, Sedgwick County, (Unincorporated Areas).
At confluence of Middle and West Branches of Gypsum Creek | ◆1,340 | ◆1,338 |
Little Arkansas River (Upper Reach):
Approximately 2,400 feet downstream of Wichita Valley Center Floodway Control Structure | None | ◆1,340 | Sedgwick County, (Unincorporated Areas).
At County Boundary | ◆1,375 | ◆1,372 |
Middle Branch Gypsum Creek:
At confluence with Gypsum Creek | ◆1,340 | ◆1,339 | City of Wichita.
Approximately 2,400 feet upstream of East Tipperary Street | ◆1,351 | ◆1,352 |
Middle Fork Calfskin Creek:
Approximately 70 feet upstream of the confluence with North Fork Calfskin Creek | ◆1,324 | ◆1,325 |
Approximately 3,375 feet upstream of confluence with North Fork Calfskin Creek | None | ◆1,340 |
North Fork Calfskin Creek:
At confluence with Calfskin Creek | ◆1,320 | ◆1,322 | City of Wichita, Sedgwick County, (Unincorporated Areas).
Approximately 4,350 feet upstream of North 135th Street West | None | ◆1,370 |
Rock Road South Tributary Gypsum Creek:
Approximately 650 feet upstream of South Rock Road | ◆1,325 | ◆1,326 | City of Wichita.
Approximately 3,730 feet upstream of East Harry Street | ◆1,344 | ◆1,347 |
Spring Creek:
Approximately 1,700 feet upstream of the confluence with Arkansas River | ◆1,236 | ◆1,237 | City of Derby, Sedgwick County, (Unincorporated Areas).
Approximately 50 feet upstream of East 63rd Street South/South Greenwich Road | None | ◆1,309 |
Tributary to North Fork Calfskin Creek:
At confluence with North Fork Calfskin Creek | None | ◆1,346 |
Approximately 3,930 feet upstream of North 151st Street West | None | ◆1,381 |
West Branch Gypsum Creek:
At confluence with Gypsum Creek | ◆1,340 | ◆1,338 | City of Wichita.
Approximately 175 feet upstream of East Farmview Lane | None | ◆1,382 |
ADDRESSES:
City of Colwich, Sedgwick County, Kansas.
Maps are available for inspection at Community Map Repository, City Hall, 310 South Second Street, Colwich, Kansas.
Send comments to The Honorable Terrance Spexarth, Mayor, City of Colwich, 310 South Second Street, Colwich, Kansas 67030.
City of Derby, Sedgwick County, Kansas.
Maps are available for inspection at Community Map Repository, City Hall, 611 Mulberry Street, Derby, Kansas.
Send comments to The Honorable Dion Avello, Mayor, City of Derby, 611 Mulberry Street, Derby, Kansas 67037.
City of Eastborough, Sedgwick County, Kansas.
Maps are available for inspection at Community Map Repository, City Hall, 1 Douglas Street, Wichita, Kansas.
Send comments to The Honorable Gary Poore, Mayor, City of Eastborough, 1 Douglas Street, Wichita, Kansas 67207.
City of Maize, Sedgwick County, Kansas.
Maps are available for inspection at Community Map Repository, City Hall, 123 Khedive, Maize, Kansas.
Send comments to The Honorable Claire Donnelly, Mayor, City of Maize, 123 Khedive, Maize, Kansas 67101.
Unincorporated Areas of Sedgwick County, Kansas.
Maps are available for inspection at Community Map Repository, Office of Stormwater Management, 455 North Main Street, 8th Floor, Wichita, Kansas.
Send comments to The Honorable William P. Buchanan, County Manager, Sedgwick County, 525 North Main Street, Suite 343, Wichita, Kansas 67203.
City of Wichita, Sedgwick County, Kansas.
Maps are available for inspection at Community Map Repository, Office of Stormwater Management, 455 North Main Street, 8th Floor, Wichita, Kansas.
Send comments to The Honorable Carlos Wayans, Mayor, City of Wichita, 455 North Main Street, 8th Floor, Wichita, Kansas 67202.
Big Creek:
Approximately 240 feet downstream of North Ranson Road | ◆919 | ◆918 | City of Greenwood, City of Lee's Summit.
Approximately 830 feet upstream of the confluence of Tributary B1 to Big Creek | ◆983 | ◆984 |
Blue Branch:
Approximately 1,220 feet downstream of South Buckner Tarsney Road | ◆779 | ◆778 | City of Grain Valley, Jackson County, (Unincorporated Areas).
Approximately 3,050 feet upstream of Sni-A-Bar Boulevard | ◆801 | ◆802 |
Burr Oak Creek:
Approximately 2,080 feet downstream of the confluence of Burr Oak Creek Tributary | None | ◆774 | City of Independence.
Approximately 160 feet downstream of Northwest Pink Hill Road | None | ◆798 |
Burr Oak Creek Tributary:
At the confluence with Burr Oak Creek | None | ◆798 |
Approximately 4,780 feet upstream of the confluence with Burr Oak Creek | None | ◆803 |
Cedar Creek:
Approximately 960 feet upstream of Interstate Highway 470 | ◆806 | ◆807 | City of Lee's Summit.
Approximately 1,550 feet upstream of Southwest Lakeview Boulevard | ◆991 | ◆996 |
East Fork Little Blue River:
Approximately 1,260 feet downstream of Northeast Scruggs Road | None | ◆887 |
Approximately 6,870 feet upstream of Southeast Winburn Trail | None | ◆978 |
Horseshoe Creek Tributary:
Approximately 50 feet upstream of the confluence with Horseshoe Creek | ◆784 | ◆782 | City of Oak Grove.
Approximately 230 feet upstream of South Broadway Street | None | ◆842 |
Little Blue River:
At Kelly Road | ◆897 | ◆908 | City of Grandview.
Approximately 3,200 feet upstream of Kelly Road | ◆907 | ◆908 |
May Brook:
Approximately 4,390 feet upstream of Northeast Velie Road | ◆777 | ◆776 | City of Lee's Summit.
Approximately 290 feet upstream of Northeast Maybrook Road | ◆788 | ◆792 |
Mouse Creek:
At Southwest Scherer Road | ◆891 | ◆908 |
Approximately 3,050 feet downstream of Southwest Sampson Road | ◆907 | ◆908 |
SB-1 Tributary to Sni-A-Bar Creek:
Approximately 2,950 feet upstream of the confluence with Sni-A-Bar-Creek | None | ◆792 | Jackson County, (Unincorporated Areas).
Approximately 680 feet upstream of South Hillside School Road | None | ◆841 |
SB-2 Tributary to Sni-A-Bar Creek:
Approximately 50 feet downstream of South Stillhouse Road | None | ◆797 |
Approximately 2,620 feet upstream of East Cummings Road | None | ◆862 |
SB-3 Tributary to Sni-A-Bar Creek:
Approximately 430 feet downstream of South Stillhouse Road | ◆802 | ◆803 |
Approximately 6,400 feet upstream of South Broadway Street/State Highway F | None | ◆870 |
SB-4 Tributary to Sni-A-Bar Creek:
At the confluence with Sni-A-Bar Creek | ◆830 | ◆832 |
Approximately 2,440 feet upstream of East Tapscott Road | None | ◆882 |
Swiney Branch:
Approximately 900 feet upstream of Seymour Road | ◆774 | ◆773 | City of Grain Valley, Jackson County, (Unincorporated Areas).
Approximately 275 feet downstream of East Duncan Road | ◆805 | ◆804 |
Tributary A1 to East Fork Little Blue River:
At confluence with East Fork Little Blue River | ◆901 | ◆902 | City of Lee's Summit.
Approximately 570 feet upstream of Windsboro Drive | ◆953 | ◆960 |
Tributary A2 to East Fork Little Blue River:
At confluence with Tributary A1 to East Fork Little Blue River | ◆920 | ◆919 |
Approximately 950 feet upstream of Southeast Battery Point | None | ◆953 |
Tributary B1 to Big Creek:
At confluence with Big Creek | ◆975 | ◆981 |
Approximately 2,560 feet upstream of the confluence with Big Creek | ◆989 | ◆986 |
Tributary B2 to Big Creek:
At confluence with Big Creek | ◆925 | ◆928 | City of Greenwood, City of Lee's Summit.
Approximately 1,930 feet upstream of State Highway 291 | None | ◆985 |
Tributary C1 to Cedar Creek:
At confluence with Cedar Creek | ◆833 | ◆839 | City of Lee's Summit.
Approximately 400 feet upstream of Southwest 3rd Street | ◆865 | ◆888 |
Tributary C2 to Cedar Creek:
At confluence with Cedar Creek | ◆905 | ◆906 |
Approximately 820 feet upstream of U.S. Highway 50 | None | ◆956 |
Tributary C3 to Cedar Creek:
At confluence with Cedar Creek | ◆931 | ◆932 |
Approximately 1,030 feet upstream of Southwest Persels Road | None | ◆970 |
Tributary C4 to Cedar Creek:
At confluence with Cedar Creek | ◆968 | ◆966 |
Approximately 280 feet upstream of Southwest Lakeview Boulevard | None | ◆992 |
Tributary C5 to Cedar Creek:
At confluence with Cedar Creek | ◆850 | ◆851 |
Approximately 1,070 feet upstream of Southwest Forest Park Boulevard | None | ◆915 |
Tributary C6 to Cedar Creek:
At the confluence with Cedar Creek | ◆921 | ◆920 |
Approximately 1,920 feet upstream of Southwest Pacific Drive | None | ◆946 |
Tributary G1 to Lake Winnebago:
At County Line Road | ◆921 | ◆938 |
At State Highway 291 | ◆974 | ◆970 |
Tributary G2 to Raintree Lake:
Approximately 75 feet upstream of the confluence with Raintree Lake | ◆962 | ◆961 |
Approximately 3,660 feet upstream of the confluence with Raintree Lake | None | ◆981 |
Tributary L1 to Lakewood Lakes:
At confluence with Lakewood Lakes | ◆863 | ◆864 |
Approximately 2,480 feet upstream of Gregory Boulevard | None | ◆906 |
Tributary P1 to Prairie Lee Lake:
At confluence with Prairie Lee Lake | ◆886 | ◆881 |
Approximately 1,770 feet upstream of State Highway 291 | ◆952 | ◆953 |
Tributary P2 to Prairie Lee Lake:
Approximately 30 feet upstream of the confluence with Prairie Lee Lake | ◆887 | ◆886 |
Approximately 950 feet upstream of the confluence of Tributary P4 to Prairie Lee Lake | ◆958 | ◆961 |
Tributary P3 to Prairie Lee Lake:
At confluence with Tributary P2 to Prairie Lee Lake | ◆922 | ◆923 |
Approximately 1,550 feet upstream of State Highway 291 | ◆978 | ◆980 |
Tributary P4 to Prairie Lee Lake:
At confluence with Tributary P2 to Prairie Lee Lake | ◆951 | ◆957 |
Just downstream of State Highway 291 | ◆957 | ◆969 |
Tributary P5 to Prairie Lee Lake:
Approximately 1,460 feet downstream of Northeast Scruggs Road | None | ◆886 | City of Lee's Summit, Jackson County, (Unincorporated Areas
Approximately 8,450 feet upstream of Northeast Blackwell Road | None | ◆949 |
Tributary to Tributary B2 to Big Creek:
At confluence with Tributary B2 to Big Creek | ◆968 | ◆969 | City of Lee's Summit.
Approximately 1,560 feet upstream of confluence with Tributary B2 to Big Creek | None | ◆976 |
Tributary to West Fork Sni-A-Bar Creek:
Approximately 1,550 feet upstream of the confluence with West Fork Sni-A-Bar Creek | None | ◆806 | Jackson County, (Unincorporated Areas).
Approximately 7,990 feet upstream of East Major Road | None | ◆875 |
Yennie Avenue Drain:
At confluence with Sni-A-Bar Creek | ◆775 | ◆774 | City of Grain Valley, Jackson County, (Unincorporated Areas).
Approximately 1,510 feet upstream of Yennie Avenue | None | ◆805 |
ADDRESSES:
City of Grain Valley, Jackson County, Missouri.
Maps are available for inspection at City Hall, 711 Main Street, Grain Valley, Missouri.
Send comments to The Honorable Brad Knight, Mayor, City of Grain Valley, City Hall, 711 Main Street, Grain Valley, Missouri 64029.
City of Grandview, Jackson County, Missouri.
Maps are available for inspection at City Hall, 1200 Main Street, Grandview, Missouri.
Send comments to The Honorable Robert M. Beckers, Mayor, City of Grandview, City Hall, 1200 Main Street, Grandview, Missouri 64030.
City of Greenwood, Jackson County, Missouri.
Maps are available for inspection at City Hall, 709 West Main Street, Greenwood, Missouri.
Send comments to The Honorable Kevin Adey, Mayor, City of Greenwood, City Hall, 709 West Main Street, Greenwood, Missouri 64034.
City of Independence, Jackson County, Missouri.
Maps are available for inspection at City Hall, 111 East Maple Avenue, Independence, Missouri.
Send comments to The Honorable Ron Stewart, Mayor, City of Independence, City Hall, 111 East Maple Avenue, Independence, Missouri 64050.
City of Lee's Summit, Jackson County, Missouri.
Maps are available for inspection at City Hall, 207 Southwest Market Street, Lee's Summit, Missouri.
Send comments to The Honorable Karen R. Messerli, Mayor, City of Lee's Summit, City Hall, 207 Southwest Market Street, Lee's Summit, Missouri 64063
City of Oak Grove, Jackson County, Missouri.
Maps are available for inspection at City Hall, 1300 South Broadway Street, Oak Grove, Missouri 64075.
Send comments to The Honorable Mark Fulks, Mayor, City of Oak Grove, City Hall, 1300 South Broadway Street, Oak Grove, Missouri 64075.
Unincorporated Areas of Jackson County, Missouri.
Maps are available for inspection at 303 West Walnut, Independence, Missouri.
Send comments to Ms. Katheryn J. Shields, County Executive, Jackson County, Jackson County Courthouse, 415 East 12th Street, Kansas City, Missouri 64106.
◆North American Vertical Datum of 1988.

(Catalog of Federal Domestic Assistance No. 83.100, “Flood Insurance.”)

Dated: December 22, 2005.
David I. Maurstad,
Acting Director, Mitigation Division, Federal Emergency Management Agency, Department of Homeland Security.

[FR Doc. E6-2415 Filed 2-17-06; 8:45 am]

BILLING CODE 9110-12-P